DEPARTMENT OF VETERANS AFFAIRS

[OMB Control No. 2900-0606]

Agency Information Collection Activity Under OMB Review: Regulation for Submission of Evidence

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before December 15, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0606” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0606” in any correspondence.

SUPPLEMENTARY INFORMATION:

Authority: US Code: 38 U.S.C. 1729.

Title: Regulation for Submission of Evidence—Title 38 CFR 17.101(a)(4).

OMB Control Number: 2900-0606.

Type of Review: Renewal of a currently approved collection.

Abstract: Under the provisions of 38 CFR, Section 17.101(a)(4), entitled “Amount of Recovery or Collection—Third Party Liability”, a third-party payer that is liable for reimbursing VA for health care VA provided to Veterans with non- service-connected conditions continues to have the option of paying either the billed charges as described in Section 17.101 or the amount the health plan demonstrates it would pay to providers other than entities of the United States for the same care or services in the same geographic area. If the amount submitted for payment is less than the amount billed, VA will accept the submission as payment, subject to verification at VA's discretion. A VA employee having responsibility for collection of such charges may request that the third party payer submit evidence or information to substantiate the appropriateness of the payment amount (e.g., health plan policies, provider agreements, medical evidence, proof of payment to other providers demonstrating the amount paid for the same care and services VA provided). This information would be needed to determine whether the third-party payer has met the test of properly demonstrating its equivalent private sector provider payment amount for the same care or services and within the same geographic area as provided by VA. This form provides for requesting patient medical records, health plan policies, provider agreements and any type or records that provide evidence of medical services and proof of payments made to others for the same medical care and services.

If VA accepts the submitted payment that is less than the billed charges, the third party payer can be subject to rate verification. In the event that rate verification is conducted, the results can be used to negotiate better rates, recoup underpayments, or amend agreements. Absent a third party payer agreement, VA should also be reimbursed billed charges or the amount third party payers would pay to non-government entities.

An agency may not conduct or sponsor, and a person is not required to respond to a collection of information unless it displays a currently valid OMB control number. The Federal Register Notice with a 60-day comment period soliciting comments on this collection of information was published at 82 FR 40831 on August 28, 2017, pages 40831 and 40832.

Affected Public: Individuals and households.

Estimated Annual Burden: 800 hours.

Estimated Average Burden per Respondent: 120 minutes.

Frequency of Response: Annually.

Estimated Number of Respondents: 400.

By direction of the Secretary.
Cynthia Harvey-Pryor,
Department Clearance Officer, Office of Quality, Privacy and Risk, Department of Veterans Affairs.

[FR Doc. 2017-24668 Filed 11-14-17; 8:45 am]

BILLING CODE 8320-01-P